Title 3—

The President

Proclamation 9628 of July 25, 2017

Anniversary of the Americans with Disabilities Act, 2017

By the President of the United States of America

A Proclamation

On the anniversary of the Americans with Disabilities Act (ADA), we celebrate the landmark legislation that marks our Nation's commitment to ending discrimination against people with disabilities. The ADA's recognition of the inherent dignity of disabled persons solidified America's status as the world leader in protecting fundamental rights. Today, we pay special respect to the contributions of the more than 56 million Americans living with disabilities, and we look forward to further advancing accessibility for all those who need it.

President George H.W. Bush signed the ADA on July 26, 1990, and for 27 years it has been instrumental in protecting the rights and liberties of people with disabilities and strengthening their access to everyday American life. Disabilities are an unavoidable part of the human experience—veterans injured in service to their Nation, survivors of accidents and illnesses, children born with disabilities, and our elderly. Since its inception, the ADA has helped empower people living with disabilities by ensuring they have fair and just access to employment, government services, public accommodations, commercial facilities, and public transportation.

Americans are justifiably proud of the ADA and its accomplishments, but more can be done to protect the rights and dignity of Americans living with disabilities. Disabled Americans in the workforce already contribute substantially to our Nation's productivity and prosperity. We must continue to empower them by breaking down obstacles that prevent their full participation in the public and economic affairs of our Nation. In addition, my Administration will encourage American ingenuity and technological advancements in medicine and science, which will give millions of Americans with disabilities opportunities to work, engage in commerce, and connect with others in ways we could not have imagined 27 years ago.

On the anniversary of the ADA, we reaffirm our commitment to fostering an environment that provides all Americans with the opportunity to pursue their American dream. Let us all take this time to refocus our efforts to support our fellow Americans and help them succeed, no matter the obstacles they may face.

NOW, THEREFORE, I, DONALD J. TRUMP, President of the United States of America, by virtue of the authority vested in me by the Constitution and the laws of the United States, do hereby proclaim July 26, 2017, as a day in celebration of the 27th Anniversary of the Americans with Disabilities Act. I call upon all Americans to observe this day with appropriate ceremonies and activities that celebrate the contributions of Americans with disabilities and to renew our commitment to achieving the promise of our freedom for all Americans.

IN WITNESS WHEREOF, I have hereunto set my hand this twenty-fifth day of July, in the year of our Lord two thousand seventeen, and of the Independence of the United States of America the two hundred and forty-second.

[FR Doc. 2017-16145

Filed 7-28-17; 8:45 am]

Billing code 3295-F7-P